FEDERAL MARITIME COMMISSION

[Petition No. P2-16]

Petition of Direct Chassislink, Inc., Flexi-Van Leasing, Inc., and Trac Intermodal for an Order To Show Cause; Notice of Filing and Request for Comments

Notice is hereby given that Direct ChassisLink, Inc., Flexi-Van Leasing, Inc., and TRAC Intermodal (Petitioners), have petitioned the Commission pursuant to 46 CFR 502.76 of the Commission's Rules of Practice and Procedure, for an Order to Show Cause to be issued under 46 CFR 502.73. Petitioners “own and lease/rent chassis to ocean common carriers, motor carriers, cargo interests and others on a short and long term basis.”

Petitioner requests the Commission “issue an Order to Show Cause to the West Coast MTO Agreement and its individual members participating in WCMTOA Marine Terminal Operator Schedule No. 1. . . .” Petitioners allege that “WCMTOA and its members have violated the Shipping Act of 1984 . . . with respect to the publication in WCMTOA Terminal Schedule No. 1 of Rule 15 establishing a Chassis Services Fee in an amount that would cumulatively cost the Petitioners an estimated $28 million annually.”

In order for the Commission to make a thorough evaluation of the Petition, interested persons are requested to submit views or arguments in reply to the Petition no later than August 26, 2016. Replies shall consist of an original and 5 copies, be directed to the Secretary, Federal Maritime Commission, 800 North Capitol Street NW., Washington, DC 20573-0001, and be served on Petitioner's counsel, Neal M. Mayer, Esq., and Paul D. Coleman, Esq., Hoppel, Mayer & Coleman, 5th Floor, 1050 Connecticut Avenue NW., Washington, DC 20036. A PDF copy of the reply must also be sent to secretary@fmc.gov. Include in the email subject line “Petition No. P2-16.”

Replies containing confidential information should not be submitted by email. The Commission will provide confidential treatment for identified confidential information to the extent allowed by law. A reply containing confidential information must include:

• A transmittal letter requesting confidential treatment that identifies the specific information in the reply for which protection is sought and demonstrates that the information is a trade secret or other confidential research, development, or commercial information.

• A confidential copy of the reply, clearly marked “Confidential-Restricted”, with the confidential material clearly marked on each page.

• A public version of your reply with the confidential information excluded or redacted, marked “Public Version—confidential materials excluded.”

The Petition will be posted on the Commission's Web site at http://www.fmc.gov/P2-16. Replies filed in response to this Petition also will be posted on the Commission's Web site at this location.

Parties participating in this proceeding may elect to receive service of the Commission's issuances in this proceeding through email in lieu of service by U.S. mail. A party opting for electronic service shall advise the Office of the Secretary in writing and provide an email address where service can be made.

Rachel E. Dickon,
Assistant Secretary.

[FR Doc. 2016-20026 Filed 8-19-16; 8:45 am]

BILLING CODE 6731-AA-P